DEPARTMENT OF TRANSPORTATION

Federal Aviation Administration

Third Meeting: RTCA Special Committee 223: Airport Surface Wireless Communications

AGENCY: Federal Aviation Administration (FAA), DOT.

ACTION: Notice of RTCA Special Committee 223: Airport Surface Wireless Communications meeting.

SUMMARY: The FAA is issuing this notice to advise the public of a meeting of RTCA Special Committee 223: Airport Surface Wireless Communications.

DATES: The meeting will be held April 13-14, 2010 from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 223: Airport Surface Wireless Communications meeting. The agenda will include:

Tuesday, April 13, 2010

Tuesday Morning—Plenary

• Opening Session (Welcome, Introductions, Administrative Remarks, Approve/Review Meeting #2 Summary, RTCA Paper No. 045-10/SC223-005)

• Special Committee Leadership

• Designated Federal Official (DFO): Mr. Brent Phillips

• Co-Chair: Mr. Aloke Roy, Honeywell International

• Co-Chair: Mr. Ward Hall, ITT Corporation

• Agenda Overview

• Report from EUROCAE WG 82 meeting

• AeroMACS Profile Working Group Status

• 2nd Plenary action item status

• Assignment of MOPS working group leader

Tuesday Afternoon—Profiles WG Breakout Session

• Document Structure

• Technical work on AeroMACS Profile

Wednesday, April 14, 2010

Wednesday Morning—Profiles WG Breakout Session

• Continue AeroMACS Profile definition

Wednesday Afternoon—Reconvene Plenary

• Profiles WG Status Report and Plenary Guidance

• Establish Agenda, Date and Place for the next plenary meeting

• Review of Meeting summary report

• Adjourn—Expected by 3 p.m. on April 14

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 19, 2010.
Francisco Estrada C.,
RTCA Advisory Committee.

[FR Doc. 2010-6668 Filed 3-24-10; 8:45 am]

BILLING CODE 4910-13-P